NATIONAL LABOR RELATIONS BOARD

29 CFR Parts 101 to 103

Unified Agenda of Federal Regulatory and Deregulatory Actions

AGENCY: National Labor Relations Board.

ACTION: Semiannual Regulatory Agenda.

SUMMARY: The following agenda of the National Labor Relations Board is published in accordance with Executive Order 12866, “Regulatory Planning and Review,” and the Regulatory Flexibility Act (RFA), 5 U.S.C. 601-612, as amended by the Small Business Regulatory Enforcement Fairness Act.

The complete Unified Agenda is available online at www.reginfo.gov. Publication in the Federal Register is mandated only for regulatory flexibility agendas required under the RFA. Because the RFA does not require regulatory flexibility agendas for the regulations proposed and issued by the Board, the Board's agenda appears only on the internet at www.reginfo.gov.

The Board's agenda refers to www.regulations.gov, the Government website at which members of the public can find, review, and comment on Federal rulemakings that are published in the Federal Register and open for comment.

FOR FURTHER INFORMATION CONTACT: For further information concerning the regulatory actions listed in the agenda, contact Farah Z. Qureshi, Deputy Executive Secretary, National Labor Relations Board, 1015 Half Street SE, Washington, DC 20570; telephone 202-273-1949, TTY/TDD 1-800-315-6572; email Farah.Qureshi@nlrb.gov.

Farah Z. Qureshi,
Deputy Executive Secretary.

National Labor Relations Board—Completed Actions
Sequence No. | Title | Regulation Identifier No.
603 | Joint Employer | 3142-AA21

NATIONAL LABOR RELATIONS BOARD (NLRB)

Completed Actions

603. Joint Employer [3142-AA21]

Legal Authority: 29 U.S.C. 156

Abstract: The National Labor Relations Board will engage in rulemaking on the standard for determining whether two employers, as defined in section 2(2) of the National Labor Relations Act (Act), are a joint employer under the Act.

Completed:

Reason | Date | FR Cite
Final Rule | 10/27/23 | 88 FR 73946
Final Rule Effective | 12/26/23

Regulatory Flexibility Analysis Required: Yes.

Agency Contact: Farah Qureshi,Phone: 202 273-1949,Email: farah.qureshi@nlrb.gov.

Roxanne Rothschild,Phone: 202 273-2917,Email: roxanne.rothschild@nlrb.gov.

RIN: 3142-AA21

[FR Doc. 2024-00467 Filed 2-8-24; 8:45 am]

BILLING CODE 7545-01-P